MERIT SYSTEMS PROTECTION BOARD

Agency Information Collection Activities; Proposed Collection

AGENCY: Merit Systems Protection Board.

ACTION: Notice.

SUMMARY: The U.S. Merit Systems Protection Board (MSPB or the Board), as part of its continuing effort to reduce paperwork and respondent burden, invites the general public and other Federal agencies to take this opportunity to comment on an extension, without change, of a currently approved information collection. In accordance with the Paperwork Reduction Act of 1995, this notice seeks comments concerning the Board's Appeal Form (MSPB Form 185) and corresponding e-Appeal Online system (e-Appeal). MSPB Form 185 and e-Appeal provides an efficient way for respondents to submit information required by the Board's regulations to initiate an appeal. The MSPB has requested an emergency extension of this information collection, which expires on May 31, 2016, for 90 days.

DATES: Written comments must be received on or before July 26, 2016.

ADDRESSES: Submit written comments on the collection of information to William D. Spencer, Clerk of the Board, Merit Systems Protection Board, 1615 M Street NW., Washington, DC 20419. Because of possible mail delays, respondents are encouraged to submit comments by email to mspb@mspb.gov or by fax to 202-653-7130.

FOR FURTHER INFORMATION CONTACT: Please contact William D. Spencer, Clerk of the Board, Merit Systems Protection Board, 1615 M Street NW., Washington, DC 20419; telephone 202-653-7200; fax 202-653-7130; email to mspb@mspb.gov. Persons without internet access may request a paper copy of the MSPB Appeal Form from the Office of the Clerk of the Board.

SUPPLEMENTARY INFORMATION: The MSPB is an independent, quasi-judicial agency in the Executive branch that serves as the guardian of Federal merit systems. The Board was established by Reorganization Plan No. 2 of 1978, which was codified by the Civil Service Reform Act of 1978, Public Law 95-454. The Board is authorized to adjudicate appeals of certain Federal agency personnel and retirement actions and certain alleged violations of law. See 5 U.S.C. 1204, 1221, 3330a and 7701; 38 U.S.C. 4324. The Board has published its regulations for processing appeals at 5 CFR parts 1201, 1208, and 1209. In order to fulfill its statutory and regulatory mandates, the Board is authorized to collect information pertinent to a case, appeal, or request for review. 5 U.S.C. 1204. This information may include pleadings, evidence, and other case related information necessary for the adjudication and administration of the case. The parties to MSPB actions submit such records in the course of adjudication. The Board's regulations require that appellants provide certain information when filing an appeal so that the Board can determine whether it has jurisdiction over the appeal and whether it has been filed within the applicable time limit. Although an appeal may be filed in any format, including letter form, MSPB provides an appeal form so that a person seeking to file an appeal will know that he or she is providing all information required for the Board to initiate processing. An electronic filing system, e-Appeal, is also available to respondents to submit same required information.

Collection of Information

Title: Merit Systems Protection Board Appeal Form (MSPB FORM 185).

Type of Information Collection: Extension, without change, of a currently approved information collection.

OMB Number: 3124-0009.

MSPB Forms: MSPB Form 185.

Abstract: MSPB's regulations (5 CFR 1201, 1208, and 1209) require appellants to provide certain information when filing an appeal to determine jurisdiction and timeliness. While the information may be submitted in any format, this form provides an efficient way to ensure that all of the required information is submitted. This form is available to download as a PDF or appellants may use the electronic filing system, e-Appeal.

Affected Public: Individuals or households.

Number of Respondents: 7,150.

Number of Responses: 7,150.

Estimated Total Annual Burden Hours: 7,150.

Estimated Cost: The estimated annual cost to respondents operations and maintenance costs for technical services is $232,518. There are no annual start-up or capital costs.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

William D. Spencer,
Clerk of the Board.

[FR Doc. 2016-12562 Filed 5-26-16; 8:45 am]

BILLING CODE 7400-01-P